DEPARTMENT OF THE INTERIOR

National Park Service

[NPS-WASO-NAGPRA-NPS0028124; PPWOCRADN0-PCU00RP14.R50000]

Notice of Inventory Completion: Autry Museum of the American West, Los Angeles, CA

AGENCY: National Park Service, Interior.

ACTION: Notice.

SUMMARY: The Autry Museum of the American West has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Autry Museum of the American West. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Autry Museum of the American West at the address in this notice by July 29, 2019.

ADDRESSES: Lylliam Posadas, MSc, Repatriation and Community Research Manager, Autry Museum of the American West, 4700 Western Heritage Way, Los Angeles, CA 90027, telephone (323) 495-4369, email lposadas@theautry.org.

SUPPLEMENTARY INFORMATION: Notice is here given in accordance with the Native American Graves Protection and Repatriation Act (NAGPRA), 25 U.S.C. 3003, of the completion of an inventory of human remains under the control of the Autry Museum of the American West, Los Angeles, CA. The human remains were removed from San Nicolas Island, Ventura, CA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Autry Museum of the American West professional staff in consultation with representatives of the Pauma Band of Luiseno Mission Indians of the Pauma & Yuima Reservation, California; Pechanga Band of Luiseno Mission Indians of the Pechanga Reservation, California; Rincon Band of Luiseno Mission Indians of the Rincon Reservation, California; and the Santa Ynez Band of Chumash Mission Indians of the Santa Ynez Reservation, California; hereafter referred to as “The Tribes.”

The Autry Museum of the American West professional staff consulted with the following non-federally recognized Indian groups: Gabrielino/Tongva Indians of California; Gabrielino/Tongva Nation; Gabrielino/Tongva Tribal Council; San Gabriel Band of Mission Indians; Ti'at Society; and the Traditional Council of Pimu (hereafter referred to as “Gabrielino/Tongva”).

History and Description of the Remains

In 1931, human remains representing, at minimum, one individual were donated by Susannah Margaret Doran Nix to the Southwest Museum of the American Indian, now the Southwest Museum of the American Indian Collection at the Autry Museum of the American West. The human remains consist of a complete cranium and mandible, and are likely female. This individual was removed from the surface of San Nicolas Island in Ventura, CA, by Edmond Leonard Doran in 1900; specific provenience information was not documented. No known individuals were identified. No associated funerary objects are present.

An examination of the human remains by Autry Museum of the American West professional staff osteologists determined that this individual is Native American. The Tribes shared oral history tracing their ancestry to the people of the Channel Islands. In addition, the archeological and ethnohistorical literature demonstrate ancestral connections between the Chumash, who inhabited the Northern Channel Islands, and San Nicholas Island. Also, the ethnographic literature documents the presence of Luiseno people in the Southern Channel Islands, including San Nicholas Island. On San Nicholas Island, the Tribes would have interacted with the Gabrielino/Tongva.

Determinations Made by the Autry Museum of the American West

Officials of the Autry Museum of the American West have determined that:

• Pursuant to 25 U.S.C. 3001(9), the human remains described in this notice represent the physical remains of one individual of Native American ancestry.

• Pursuant to 25 U.S.C. 3001(2), there is a relationship of shared group identity that can be reasonably traced between the Native American human remains and The Tribes.

Additional Requestors and Disposition

Lineal descendants or representatives of any Indian Tribe or Native Hawaiian organization not identified in this notice that wish to request transfer of control of these human remains should submit a written request with information in support of the request to Lylliam Posadas, Autry Museum of the American West, 4700 Western Heritage Way, Los Angeles, CA 90027, telephone (323) 495-4369, email lposadas@theautry.org, by July 29, 2019. After that date, if no additional requestors have come forward, transfer of control of the human remains to The Tribes may proceed.

The Autry Museum of the American West is responsible for notifying The Tribes that this notice has been published.

Dated: June 5, 2019.
Melanie O'Brien,
Manager, National NAGPRA Program.

[FR Doc. 2019-13840 Filed 6-27-19; 8:45 am]

BILLING CODE 4312-52-P